DEPARTMENT OF THE INTERIOR

Fish and Wildlife Service

[FWS-R6-R-2013-N147; FXRS1265066CCP0-134-FF06R06000]

Rocky Mountain Arsenal National Wildlife Refuge, Commerce City, CO; Comprehensive Conservation Plan and Environmental Impact Statement; Two Ponds National Wildlife Refuge, Arvada, CO; Comprehensive Conservation Plan and Environmental Assessment

AGENCY: Fish and Wildlife Service, Interior.

ACTION: Notice of intent; request for comments.

SUMMARY: We, the U.S. Fish and Wildlife Service (Service), intend to prepare a Comprehensive Conservation Plan (CCP) and an Environmental Impact Statement (EIS) for the Rocky Mountain Arsenal National Wildlife Refuge in Commerce City, Colorado. The Service also intends to prepare a CCP and an Environmental Assessment for the Two Ponds National Wildlife Refuge in Arvada, Colorado. These refuges are currently being managed under Comprehensive Management Plans developed in the mid-1990s and as part of the Rocky Mountain Arsenal National Wildlife Refuge Complex. We provide this notice in compliance with our CCP policy to advise other Federal and State agencies, Tribes, and the public of our intentions, and to obtain suggestions and information on the scope of issues to consider in the planning process of revising the management plans for these refuges.

DATES: To ensure consideration, please send your written comments by October 11, 2013. Submit comments by one of the methods under ADDRESSES. We will announce opportunities for public input in local news media throughout the CCP process.

ADDRESSES: Send your comments or requests for more information by any of the following methods.

Email: rockymountainarsenal@fws.gov. Include “Rocky Mountain Arsenal National Wildlife Refuge CCP” or “Two Ponds National Wildlife Refuge CCP,” as appropriate, in the subject line of the message.

Fax: Attn: Bernardo Garza and Toni Griffin, Planning Team Leaders, 303/236-4792.

U.S. Mail: Bernardo Garza and Toni Griffin, Planning Team Leaders, Division of Refuge Planning, P.O. Box 25486, Denver, CO 80225-0486.

In-Person Drop-off: You may drop off comments during regular business hours at the above address, or at the Rocky Mountain Arsenal National Wildlife Refuge Complex administrative office located at 6550 Gateway Road, Commerce City, CO 80022.

FOR FURTHER INFORMATION CONTACT: Bernardo Garza, 303/236-4377 (phone) or bernardo_garza@fws.gov (email); Toni Griffin, 303/236-4378 (phone) or toni_griffin@fws.gov (email); or David C. Lucas, Chief, Division of Planning, 303/236-4366 (phone), P.O. Box 25486, Denver Federal Center, Denver, CO 80225-0486.

SUPPLEMENTARY INFORMATION:

Introduction

With this notice, we initiate our process for developing CCPs for the Rocky Mountain Arsenal National Wildlife Refuge in Commerce City, CO, and the Two Ponds National Wildlife Refuge in Arvada, CO. This notice complies with our CCP policy to (1) advise other Federal and State agencies, Tribes, and the public of our intention to conduct detailed planning on these refuges and (2) to obtain suggestions and information on the scope of issues to consider in the environmental document and during development of the CCPs.

Background

The CCP Process

The National Wildlife Refuge System Administration Act of 1966 (16 U.S.C. 668dd-668ee) (Administration Act) as amended by the National Wildlife Refuge System Improvement Act of 1997, requires us to develop a CCP for each unit of the National Wildlife Refuge System (NWRS). The purpose for developing a CCP is to provide the managers of the units of the NWRS with a 15-year plan for achieving the units' purposes and contributing toward the mission of the NWRS, consistent with sound principles of fish and wildlife management, conservation, legal mandates, and our policies. In addition to outlining broad management direction on conserving wildlife and their habitats, CCPs identify compatible wildlife-dependent recreational opportunities available to the public, including, where appropriate, opportunities for hunting, fishing, wildlife observation and photography, and environmental education and interpretation. We will review and update the CCPs at least every 15 years in accordance with the Administration Act.

Each unit of the NWRS was established for specific purposes. We use these purposes as the foundation for developing and prioritizing the management goals and objectives for each unit within the NWRS and to determine how the public can enjoy public uses in the NWRS units. The planning process is a way for us and the public to evaluate management goals and objectives that will ensure the best possible approach to wildlife, plant, and habitat conservation, while providing for wildlife-dependent recreation opportunities that are compatible with each of the unit's establishing purposes and the mission of the NWRS.

Our CCP process provides participation opportunities for Tribal, State, and local governments; agencies; organizations; and the public. At this time we encourage input in the form of issues, concerns, ideas, and suggestions for the future management of the Rocky Mountain Arsenal and Two Ponds National Wildlife Refuges.

We will conduct the environmental review of these projects in accordance with the requirements of the National Environmental Policy Act of 1969, as amended (NEPA) (42 U.S.C. 4321 et seq.); NEPA regulations (40 CFR parts 1500-1508 and 43 CFR part 46); other appropriate Federal laws and regulations; and our policies and procedures for compliance with those laws and regulations.

Rocky Mountain Arsenal National Wildlife Refuge

The Rocky Mountain Arsenal National Wildlife Refuge is one of the nation's premier urban national wildlife refuges. Located within the highly urbanized Denver Metropolitan Area, it is approximately 16,000 acres in size and consists of a number of important fish and wildlife habitats, including native shortgrass and mixedgrass prairies, riparian corridors, numerous wetlands, and multiple lakes. The U.S. Army and Shell Corporation recently finished their remediation of the site, which included restoring thousands of acres of native grasslands, and the site is now being managed for wildlife conservation and compatible, wildlife-dependent public uses. This refuge supports many animals, including more than 271 species of birds, such as bald eagles, burrowing owls, and Swainson's hawks; coyote and red fox; bison and deer; raccoon and several other species of small mammals, amphibians, reptiles, and fish. Without traveling far from the Colorado Front Range region, people have a unique opportunity to connect with their natural environment. There are a variety of wildlife-dependent recreational opportunities available to the over 300,000 annual visitors, such as hiking trails, observing wildlife from the Auto Tour Route or the Wildlife Drive, participating in environmental education programs, and experiencing one of the best catch-and-release fisheries in Colorado. As part of the planning process, this refuge is considering reintroducing the endangered black-footed ferret (Mustela nigripes). This federally listed species is the only ferret native to North America and is considered one of the most endangered mammals in the world. Historically, this ferret species occurred throughout the Great Plains wherever prairie dogs (Cynomys spp.) were found. As a highly specialized predator, black-footed ferrets prey upon prairie dogs and use their underground burrows for shelter. Black-footed ferrets and prairie dogs are part of an ecosystem that has been dramatically altered and reduced in size over the past century. The proposed reintroduction of the black-footed ferret to this refuge is a positive step toward the recovery of this iconic prairie species.

Two Ponds National Wildlife Refuge

The Two Ponds National Wildlife Refuge—located in the heart of the City of Arvada, Colorado—is one the smallest urban unit of the NWRS and is part of the Rocky Mountain Arsenal National Wildlife Refuge Complex. This refuge is about 72 acres in size and consists of important fish and wildlife habitats such as native shortgrass prairie, native mixed-grass prairie, and wetland. The Two Ponds National Wildlife Refuge supports many animals, including more than 120 species of birds, coyote and red fox, muskrat, raccoon, and beaver, deer, several species of small mammals, amphibians, reptiles, and fish. In 1990, a local citizen's group—the Two Ponds Preservation Foundation—was instrumental in preserving this site from development. The group's efforts contributed to the establishment of this refuge in 1992. Since then, the refuge staff has worked to restore, enhance, and preserve a diversity of upland and wetland habitats for migratory and resident wildlife, and to provide many visitor experiences. Located conveniently within the Denver metro area, the refuge provides a unique opportunity for people to connect with their natural environment. A variety of wildlife-dependent recreational opportunities is available annually to more than 15,000 visitors—people can hike trails, observe and photograph wildlife, participate in environmental education programs, volunteer their talents, and join in a diverse array of community service projects.

Scoping: Preliminary Issues, Concerns, and Opportunities

Rocky Mountain Arsenal NWR

Possibility of reintroducing black-footed ferrets: Habitat and prey needs; protection

Management of the bison herd

The Refuges' urban and wildlife interface as a gateway community and urban refuge

The Refuge's role on the Rocky Mountain Greenway Trail and other such efforts

The Refuges' role in the Service's “Connecting People with Nature” and other initiatives

Relationship of the CCP to other landscape wide conservation efforts

Implications of outdoor recreational opportunities on the Refuges' habitats and wildlife

Habitat and invasive species management

Successful outreach and engagement of nontraditional publics

Expanding commercial development and urbanization surrounding the Refuge

Necessary infrastructure (e.g., boardwalk, interpretive signs, parking lot, etc.)

Involvement of different publics in the Refuge's wildlife-dependent public uses

Law enforcement

Habitat management tools, such as fire and chemical control, in highly urbanized areas

Protection of remedy and facilities under the Comprehensive Environmental Response, Compensation, and Liability Act and the Resource Conservation and Recovery Act

Two Ponds NWR

Management and implications of the water canals that cross the refuge to surrounding cities

The Refuges' urban and wildlife interface as a gateway community and urban refuge

The Refuge's role on the Rocky Mountain Greenway Trail and other such efforts

The Refuges' role in the Service's “Connecting People with Nature” and other initiatives

Implications of outdoor recreational opportunities on the Refuges' habitat and wildlife

Habitat and invasive species management

Existing vs. necessary infrastructure (e.g., buildings, water control structures, etc.)

Involvement of different publics in the Refuge's wildlife-dependent public uses

Habitat management tools, such as fire and chemical control, in a highly urbanized area

We request input on these issues and other concerns affecting refuge management or public use during the planning process. We are especially interested in receiving public input in the following areas:

(a) What suggestions do you have for managing wildlife and habitat on the refuges in the face of possible climate change and declining precipitation?

(b) What ideas do you have regarding visitor services and wildlife-dependent public uses on the refuges?

(c) What changes, if any, would you like to see in the management of Rocky Mountain Arsenal and Two Ponds National Wildlife Refuges?

(d) What concerns do you have regarding bison and prairie dog management or the reintroduction of species such as black-footed ferret at the Rocky Mountain Arsenal NWR?

We provide the above questions for your optional use. We have no requirement that you provide information; however, any comments the planning team receives will be used as part of the planning process.

Public Meetings

We will give the public opportunities to provide initial input via telephone, email, postal mail, fax (see ADDRESSES), and in person at public scoping meetings we will host throughout the Denver Metropolitan Area in July, August, and September, 2013. We will announce the details of the public meetings and other opportunities for public input in local news media throughout the CCP process. You may also send comments anytime during the planning process by U.S. mail, email, or fax. There will be additional opportunities to provide public input and comments once we have prepared a draft CCP.

Public Availability of Comments

Any comments we receive will become part of the administrative record and may be available to the public. Before submitting comments that include your address, phone number, email address, or other personal identifying information, you should be aware that your entire comment, including your personal identifying information, may be made publicly available at any time. While you may ask us in your comment to withhold your personal identifying information from public review, we cannot guarantee that we will be able to do so.

Dated: July 10, 2013.
Matt Hogan,
Acting Regional Director, U. S. Fish and Wildlife Service, Mountain-Prairie Region.

[FR Doc. 2013-19052 Filed 8-6-13; 8:45 am]

BILLING CODE 4310-55-P